JUDICIAL CONFERENCE OF THE UNITED STATES

Advisory Committee on Criminal Rules; Meeting of the Judicial Conference

AGENCY: Judicial Conference of the United States.

ACTION: Advisory Committee on Criminal Rules; notice of open meeting.

SUMMARY: The Advisory Committee on Criminal Rules will hold a meeting in a hybrid format with remote attendance options on November 6-7, 2024 in New York, NY. The meeting is open to the public for observation but not participation. An agenda and supporting materials will be posted at least 7 days in advance of the meeting at: https://www.uscourts.gov/rules-policies/records-and-archives-rules-committees/agenda-books.

DATES: November 6-7, 2024.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: September 13, 2024.
Shelly L. Cox,
Management Analyst, Rules Committee Staff.

[FR Doc. 2024-21274 Filed 9-18-24; 8:45 am]

BILLING CODE 2210-55-P